DEPARTMENT OF ENERGY

Federal Energy Regulatory Commission

Combined Notice of Filings #2

Take notice that the Commission received the following electric rate filings:

Docket Numbers: ER10-1789-008; ER10-1768-007; ER10-1770-007; ER10-1771-007; ER10-1793-007; ER12-1250-007; ER16-1924-005; ER16-1925-005; ER16-1926-005; ER16-2725-005; ER17-2426-003; ER19-1738-003.

Applicants: PSEG Energy Resources & Trade LLC, Public Service Electric and Gas Company, PSEG Fossil LLC, PSEG Nuclear LLC, PSEG Power Connecticut LLC, PSEG New Haven LLC, Bison Solar LLC, Pavant Solar II LLC, San Isabel Solar LLC, PSEG Energy Solutions LLC, PSEG Keys Energy Center LLC, PSEG Fossil Sewaren Urban Renewal LLC.

Description: Triennial Updated Market Power Analysis of the PSEG Applicants, et al.

Filed Date: 12/30/19.

Accession Number: 20191230-5279.

Comments Due: 5 p.m. ET 2/28/20.

Docket Numbers: ER10-2042-032; ER10-1942-024; ER17-696-012; ER10-1938-027; ER10-1934-026; ER10-1893-026; ER10-3051-031; ER10-2985-030; ER10-3049-031; ER10-1877-006; ER11-4369-011; ER16-2218-011; ER10-1862-026.

Applicants: Calpine Energy Services, L.P., Calpine Construction Finance Company, LP, Calpine Energy Solutions, LLC, Calpine PowerAmerica—CA, LLC, CES Marketing IX, LLC, CES Marketing X, LLC, Champion Energy, LLC, Champion Energy Marketing LLC, Champion Energy Services, LLC, Hermiston Power, LLC, North American Power and Gas, LLC, North American Power Business, LLC, Power Contract Financing, L.L.C.

Description: Updated Market Power Analysis of the Calpine Northwest MBR Sellers, et al.

Filed Date: 12/31/19.

Accession Number: 20191231-5332.

Comments Due: 5 p.m. ET 3/2/20.

Docket Numbers: ER10-2997-006; ER10-2172-029; ER10-2179-034; ER10-1048-026; ER10-2192-035; ER11-2056-022; ER10-2178-035; ER14-1524-009; ER16-2194-003; ER10-3018-006; ER17-2201-004; ER10-1020-024; ER13-1536-019; ER10-1078-024; ER10-1080-024; ER16-2708-003; ER10-1081-025; ER15-2293-003; ER14-2145-008; ER10-2180-028; ER10-2181-036; ER10-1143-025; ER10-3030-006; ER10-2182-035.

Applicants: Atlantic City Electric Company, Baltimore Gas and Electric Company, Calvert Cliffs Nuclear Power Plant, LLC, Commonwealth Edison Company, Constellation Energy Commodities Group Maine, LLC, Constellation Mystic Power, LLC, Constellation NewEnergy, Inc., Constellation Power Source Generation, LLC, Clinton Battery Utility, LLC, Criterion Power Partners, LLC, Delmarva Power & Light Company, Exelon FitzPatrick, LLC, Exelon Framingham, LLC, Exelon Generation Company, LLC, Exelon New Boston, LLC, Exelon West Medway, LLC, Exelon West Medway II, LLC, Exelon Wyman, LLC, Fair Wind Power Partners, LLC, Fourmile Wind Energy, LLC, Handsome Lake Energy, LLC, Nine Mile Point Nuclear Station, LLC, PECO Energy Company, Potomac Electric Power Company, R.E. Ginna Nuclear Power Plant, LLC.

Description: Updated Market Power Analysis for the Northeast Region of the Exelon NE Entities, et al.

Filed Date: 12/30/19.

Accession Number: 20191230-5272.

Comments Due: 5 p.m. ET 2/28/20.

Docket Numbers: ER11-3980-005; ER10-2294-006; ER11-3808-005; ER13-534-005; ER13-2103-003; ER13-2414-002; ER15-2330-002; ER16-131-002; ER17-2472-003; ER17-2471-003; ER18-301-002; ER18-664-002; ER13-413-006; ER18-2435-002.

Applicants: ORNI 14 LLC, ORNI 18 LLC, ORNI 39 LLC, Mammoth One LLC, ORNI 47 LLC, Mammoth Three LLC, ORNI 37 LLC, Heber Geothermal Company LLC, ONGP LLC, ORNI 43 LLC, Ormesa LLC, Steamboat Hills LLC, USG Oregon LLC, ORNI 41 LLC.

Description: Updated Market Power Analysis for the Northwest Region of ORNI 14 LLC, et al.

Filed Date: 12/31/19.

Accession Number: 20191231-5324.

Comments Due: 5 p.m. ET 3/2/20.

Docket Numbers: ER15-1952-007; ER16-853-004; ER16-855-004; ER16-856-004; ER16-857-004; ER16-858-004; ER16-860-004; ER16-861-004.

Applicants: Pavant Solar, LLC, Enterprise Solar, LLC, Escalante Solar I, LLC, Escalante Solar II, LLC, Escalante Solar III, LLC, Granite Mountain Solar East, LLC, Granite Mountain Solar West, LLC, Iron Springs Solar, LLC.

Description: Triennial Market Power Analysis for the Northwest Region of Pavant Solar, LLC, et al.

Filed Date: 12/30/19.

Accession Number: 20191230-5283.

Comments Due: 5 p.m. ET 2/28/20.

Docket Numbers: ER17-1519-003.

Applicants: PECO Energy Company, PJM Interconnection, L.L.C.

Description: Compliance filing: PECO submits filing in compliance with the Commission's 12/5/2019 Order to be effective 12/5/2019.

Filed Date: 1/2/20.

Accession Number: 20200102-5136.

Comments Due: 5 p.m. ET 1/23/20.

Docket Numbers: ER19-708-002.

Applicants: GSG, LLC.

Description: Compliance filing: Compliance Filing Under Docket ER19-708-002 to be effective 2/26/2019.

Filed Date: 12/31/19.

Accession Number: 20191231-5104.

Comments Due: 5 p.m. ET 1/21/20.

Docket Numbers: ER19-2684-001.

Applicants: Palmer Solar, LLC.

Description: Notice of Non-Material Change in Status of Palmer Solar, LLC.

Filed Date: 12/31/19.

Accession Number: 20191231-5319.

Comments Due: 5 p.m. ET 1/21/20.

Docket Numbers: ER20-729-000.

Applicants: The Connecticut Light and Power Company.

Description: Tariff Cancellation: Cancellation of Clear River Energy LLC Related Facilities Agreement to be effective 11/25/2019.

Filed Date: 1/2/20.

Accession Number: 20200102-5112.

Comments Due: 5 p.m. ET 1/23/20.

Docket Numbers: ER20-730-000.

Applicants: NSTAR Electric Company.

Description: Tariff Cancellation: Cancellation of Clear River Energy LLC Related Facilities Agreement to be effective 11/25/2019.

Filed Date: 1/2/20.

Accession Number: 20200102-5113.

Comments Due: 5 p.m. ET 1/23/20.

Take notice that the Commission received the following public utility holding company filings:

Docket Numbers: PH20-6-000.

Applicants: Brookfield Asset Management Inc.

Description: Brookfield Asset Management Inc. submits FERC 65-B Updated Waiver Notification.

Filed Date: 12/31/19.

Accession Number: 20191231-5321.

Comments Due: 5 p.m. ET 1/21/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2020.
Kimberly D. Bose,
Secretary.

[FR Doc. 2020-00086 Filed 1-7-20; 8:45 am]

BILLING CODE 6717-01-P